DEPARTMENT OF COMMERCE

National Oceanic and Atmospheric Administration

RIN 0648-XA866

Endangered and Threatened Species; Take of Anadromous Fish

AGENCY: National Marine Fisheries Service (NMFS), National Oceanic and Atmospheric Administration (NOAA), Commerce.

ACTION: Application for a research permit renewal.

SUMMARY: Notice is hereby given that NMFS has received a scientific research permit application request relating to Pacific salmon and the southern distinct population segment of Pacific eulachon. The proposed research is intended to increase knowledge of species listed under the Endangered Species Act (ESA) and to help guide management and conservation efforts. The application may be viewed online at: https://apps.nmfs.noaa.gov/preview/preview_open_for_comment.cfm

DATES: Comments or requests for a public hearing on the applications must be received at the appropriate address or fax number (see ADDRESSES) no later than 5 p.m. Pacific standard time on January 17, 2012.

ADDRESSES: Written comments on the applications should be sent to the Protected Resources Division, NMFS, 1201 NE Lloyd Blvd., Suite 1100, Portland, OR 97232-1274. Comments may also be sent via fax to (503) 230-5441 or by email to nmfs.nwr.apps@noaa.gov.

FOR FURTHER INFORMATION CONTACT: Rob Clapp, Portland, OR (ph.: (503) 231-2314), Fax: (503) 230-5441, email: Robert.Clapp@noaa.gov. Permit application instructions are available from the address above, or online at https://apps.nmfs.noaa.gov.

SUPPLEMENTARY INFORMATION:

Species Covered in This Notice

The following listed species are covered in this notice:

Chinook salmon (Oncorhynchus tshawytscha): threatened upper Willamette River (UWR); threatened lower Columbia River (LCR); endangered upper Columbia River (UCR); threatened Snake River (SR) spring/sum (spr/sum); threatened SR fall;

Steelhead (O. mykiss): threatened UWR, threatened LCR; threatened UCR; threatened SR; threatened middle Columbia River (MCR).

Chum salmon (O. nerka): threatened CR.

Coho salmon (O. kisutch): threatened LCR.

Eulachon: the southern Distinct Populations Segment (SDPS) of Pacific eulachon (Thaleichthys pacificus).

Authority

Scientific research permits are issued in accordance with section 10(a)(1)(A) of the ESA (16 U.S.C. 1531 et. seq) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1461-5R

The United States Geological Survey (USGS) is seeking to renew for five years a research permit that would allow them to take all fish species covered in this notice while conducting research at Crims Island and the Julia Butler Hanson National Wildlife Refuge in the lower Columbia River. The purpose of the research is to determine fish species composition, habitat use, and diet in the areas sampled. The data gathered would be used to guide and determine the effectiveness of habitat restoration activities in the lower Columbia River. The species would benefit from well-planned and monitored habitat restoration activities as well as (ultimately) the restored habitat itself. Permit 1461 has been in place since 2004; the USGS is requesting that the permit be issued for an additional five years. Juvenile salmonids would be collected (using beach seines, Fyke nets, backpack electrofishing, and boat electrofishing), and variously anesthetized, measured for length and weight, sampled for stomach contents and scales, marked (using fluorescent elastomers, Pan-jet needle-less inocculators, or batchmarked with a flourochrome dye), PIT tagged, allowed to recover from the anesthesia, and released. Not all fish would undergo all these procedures, but all would be anesthetized. The USGS does not intend to kill any fish, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: December 12, 2011.
Lisa Manning,
Acting Chief, Endangered Species Division, Office of Protected Resources, National Marine Fisheries Service.

[FR Doc. 2011-32286 Filed 12-15-11; 8:45 am]

BILLING CODE 3510-22-P